DEPARTMENT OF LABOR

Employment and Training Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the proposed extension/reinstatement of the data retention required by 20 CFR 652.8(d)(5) of the Wagner-Peyser Act, which requires each state to retain applications and job orders for a minimum of one year. A copy of the proposed information collection request (ICR) can be obtained by contacting the office listed below in the addressee section of this notice or at this Web site: http://www.doleta.gov/OMBCN/OMBControlNumber.cfm.

DATES: Written comments must be submitted to the office listed in the addressee section below on or before February 13, 2007.

ADDRESSES: Send comments to: Christine Ollis, U.S. Department of Labor/Employment and Training Administration, Office of Workforce Investment, Room S-4231, 200 Constitution Avenue, NW., Washington, DC 20210. Telephone (202) 693-3046 (this is not a toll-free number), fax (202) 693-3015, or e-mail ollis.christine@dol.gov.

SUPPLEMENTARY INFORMATION:

I. Background

State Workforce Agencies serve employers and jobseekers within the One-Stop Career Center system by posting job orders and taking work applications (commonly referred to as registrations). This information is essential to the core operations of One-Stop Career Centers. The exact information collected on job orders and work applications and the manner in which it is collected is determined by the state. At a minimum, states must comply with 20 CFR 652.8(d)(5), which requires that each state retain applications and job orders for one year.

II. Review Focus

The Department of Labor is particularly interested in comments which:

• evaluate whether the proposed collection of information is necessary for the proper performance of the functions of the agency, including whether the information will have practical utility;

• evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques or other forms of information technology, e.g., permitting electronic submissions of responses.

III. Current Actions

Type of Review: Reinstatement, without change, of a previously approved collection.

Agency: Employment & Training Administration.

Title: Work Application/Job Orders Record Retention.

OMB Number: 1205-0001.

Recordkeeping: Record Retention.

Affected Public: State Governments.

Cite/Reference/Form/: 20 CFR 652.8(d)(5).

Total Respondents: 52.

Frequency: Quarterly.

Total Responses: N/A.

Average Time per Response: N/A.

Estimated Total Burden Hours: 416.

Comments submitted in response to this notice will be summarized and/or included in the request for Office of Management and Budget approval of the information collection request; they will also become a matter of public record.

Signed at Washington, DC this 8th day of December 2006.
Gay M. Gilbert,
Administrator, Office of Workforce Investment, Employment and Training Administration.

[FR Doc. E6-21423 Filed 12-14-06; 8:45 am]

BILLING CODE 4510-30-P